DEPARTMENT OF JUSTICE

Notice of Lodging of Proposed First Amended Consent Decree Under the Clean Water Act

On January 16, 2025, the Department of Justice lodged a proposed First Material Modification to the 2006 Consent Decree with the United States District Court for the District of Connecticut in the lawsuit entitled United States et al. v. Metropolitan District of Hartford, Connecticut, Civil Action No. 3:06-cv-00728.

In this action, the United States and the State of Connecticut sought civil penalties and injunctive relief for violations of the Clean Water Act, 33 U.S.C. 1251 et seq., in connection with the Metropolitan District of Hartford, Connecticut's (“MDC's”) operation of its municipal wastewater treatment facility and sewer system. These claims were resolved in a Consent Decree, which was approved by the Court in August 2006. Under the Consent Decree, the MDC is required to, among other things, eliminate all sanitary sewer overflow (“SSO”) outfalls by a date certain and submit and implement control projects and schedules to reduce inflow and infiltration (“I/I”), which can dilute sanitary sewers and in turn, decrease treatment efficiency. Since 2006, the MDC has eliminated all but three of its SSO outfalls and has proposed several I/I reduction projects and schedules. The proposed modification extends the deadline for eliminating the remaining SSO outfalls by about 4 years and incorporates a schedule for implementing I/I reduction projects.

The publication of this notice opens a period for public comment on the proposed First Material Modification to the 2006 Consent Decree. Comments should be addressed to the Assistant Attorney General, Environment and Natural Resources Division, and should refer to United States et al. v. Metropolitan District of Hartford, Connecticut, D.J. Ref. No. 90-5-1-1-08404. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, D.C. 20044-7611.

During the public comment period, the Consent Decree may be examined and downloaded at this Justice Department website: https://www.justice.gov/enrd/consent-decrees. If you require assistance accessing the proposed Consent Decree, you may request assistance by email or by mail to the addresses provided above for submitting comments.

Eric D. Albert,
Assistant Section Chief, Environmental Enforcement Section, Environment and Natural Resources Division.

[FR Doc. 2025-01559 Filed 1-22-25; 8:45 am]

BILLING CODE 4410-15-P